DEPARTMENT OF ENERGY

Office of Energy Efficiency and Renewable Energy

Initiative on Cooperative Programs with States for Research, Development and Demonstration

AGENCY: Office of Energy Efficiency and Renewable Energy, Department of Energy.

ACTION: Notice of competitive financial assistance solicitation.

SUMMARY: The Department of Energy (DOE) is announcing a competitive solicitation for applications for cooperative agreements to pursue applied research, development and demonstration involving energy efficiency. Demonstrations will be limited to field tests that are primarily designed to provide critical operational feedback to researchers and/or manufacturers for the purpose of improving technical performance or lowering costs. The solicitation will not support demonstration projects intended primarily to stimulate market acceptance or build institutional support for available technologies. It is estimated that funding of approximately $6 million will be available for 6 to 10 awards under this solicitation in fiscal year 2001. Projects may be for a maximum of three years with total DOE funding of no more than $1,000,000 (DOE funding of approximately of $300,000 per year). The following areas of interest have been identified: (1) Buildings; (2) State Industries of the Future; (3) Combined Heat and Power and Distributed Power; and (4) Transportation.

DATES: The formal solicitation document, which includes greater detail about specific program areas of interest, application instructions, due dates and evaluation criteria, is available on the Golden Field Office website (see address below). Prospective applicants will be required to submit a pre-application, not longer than two pages, by May 4, 2001. Any pre-applications which have been submitted to DOE under this solicitation in 2001, prior to this published notice, are not required to be re-submitted. All pre-applications must be submitted by an eligible applicant. A response to the pre-application encouraging or discouraging a formal application will be communicated to the applicant. Submission of a pre-application is a requirement for submitting an application under this solicitation.

ADDRESSES: The formal solicitation document is available electronically as Solicitation No. DE-PS36-01GO90010 through the Golden Field Office's World Wide Web site at: http://www.golden.doe.gov/businessopportunities.html.

FOR FURTHER INFORMATION CONTACT: U.S. Department of Energy, Office of Energy Efficiency and Renewable Energy, Golden Field Office, 1617 Cole Blvd., Golden, CO 80401. The Contract Specialist is James Damm, at FAX (303) 275-4788 or e-mail at gostate@nrel.gov. All questions or comments concerning this announcement must be in writing and should be directed to the attention of Mr. Damm. The preferred method of submitting questions and/or comments is through e-mail. Only questions and comments submitted to Mr. Damm will be considered. Questions and/or comments requiring coordination with EERE program officials will be directed by Mr. Damm to the cognizant offices.

SUPPLEMENTARY INFORMATION: Proposals will be subject to the objective merit review procedures for the Office of Energy Efficiency and Renewable Energy (EERE). Eligibility for this assistance is restricted to state agencies, (including state energy offices or organizations that represent state energy offices), and organizations that represent state energy research entities. Institutions of higher education are not eligible to be recipients under this solicitation. However, these institutions can participate as subawardees to eligible applicants. Eligible applicants may enter teaming arrangements with industry, DOE national laboratories, institutions of higher education, non-profit organizations, and Native American organizations.

Applications by DOE management and operating contractors (M&O) will not be eligible for award. However, applications that include performance of a portion of the project, not to exceed 50 percent of the total effort, by an M&O contractor will be eligible provided that the proposed use of any such entity is specifically authorized in writing by the DOE Contracting Officer or authorized designee responsible for the M&O.

This solicitation provides opportunities to leverage funds for Research, Development and Demonstration (RD&D) designed to advance technologies that promote energy efficiency. A minimum of 20 percent non-Federal cost-sharing will be required for all projects receiving awards. Any proposed cost-sharing above the minimum 20 percent will be given favorable consideration in the selection process.

The Office of EERE implements DOE's strategic objectives of increasing the efficiency and productivity of energy use, while limiting environmental impacts; reducing the vulnerability of the U.S. economy to disruptions in energy supplies; ensuring that a competitive electric utility industry is in place that can deliver adequate and affordable supplies with reduced environmental impacts; supporting U.S. energy, environmental, and economic interests in global markets; and delivering leading-edge technologies.

The purpose of the solicitation is to pursue applied research, development, and demonstration (including field testing) with state energy offices and state energy research organizations in the following technology areas (or combination of technology areas) as described below:

1. Building Technologies

A. Whole Buildings

Through a whole building (or “systems engineering”) approach, individual building components and subsystems are considered collectively in terms of their interactions and joint impacts on building occupants and building operating performance. Projects should focus on the following topics: daylighting, indoor environmental quality, commissioning and controls.

B. Building Components

Building Equipment—energy conversion and control equipment supplying lighting, space conditioning (heating, cooling, dehumidification and ventilation), water heating, refrigeration, laundry, computing and information services and conveniences to building occupants and commercial operations. Specific needs include electric heat pump water heating, lighting controls, thermal distribution, unitary HVAC systems performance and dehumidification.

Building Envelope—materials, components and systems for the windows, walls, roofs, foundations, and other elements which comprise building exteriors and provide thermal integrity and daylighting. Specific research needs include moisture research and window systems.

2. State Industries of the Future

Specific needs include the following:

Projects will be considered for funding that have been identified through a State Industries of the Future needs assessment exercise (local industry identification of priority research, development and demonstration needs that will result in enhanced energy efficiency, waste reduction and operational performance for that industry.) Only projects that address the nine Office of Industrial Technologies Industries of the Future will be considered. These industries are agriculture, aluminum, chemicals, forest products, glass, metal casting, mining, petroleum refining and steel. (Please visit our website at www.oit.doe.gov for a detailed explanation of the Industries of the Future.)

Projects will be considered for funding that are not specifically addressed in one of the Office of Industrial Technologies national industry specific solicitations. Projects considered for funding will be projects that state industries have determined will address priority energy, environmental and operational needs, but are not included in the current national level solicitations. These needs might have either a state specific or national focus.

Participating state agencies are highly encouraged to partner with a State Land Grant University. Proposals will discuss how the Land Grant Extension Service will be utilized to promote the technology and to disseminate results to the local industrial and manufacturing communities. Other partners including other universities, research institutions and laboratories may also be included in the project.

3. Combined Heat and Power (CHP) and Distributed Power

Applications will be accepted for work involving distributed power and combined heat and power technologies. This work includes, but is not limited to, applied research and field testing to address:

(a) Transmission constraints, interconnect barriers, and to encourage strategic placement of distributed power technologies, consistent and streamlined siting and permitting regulations, and an equipment pre-certification program to avoid long and costly permitting delays;

(b) New commercial and industrial development and urban infill redevelopment for distributed generation utilizing several DOE developed technologies (e.g., fuel cells, microturbines, industrial turbines, photovoltaics, wind, solar geothermal and energy storage) and demand-side management measures to examine systemic operational parameters and capabilities;

(c) Advanced distributed power and combined heat and power technologies at state and federal facilities; and

(d) Hybrid applications (e.g., hybrid wind/fuel cell/microturbine applications) for institutional and commercial application.

4. Transportation

Projects should focus on field research and technology validations / operational tests designed to maximize the benefits of clean and efficient vehicle technologies. Cooperative projects should focus on the following:

(a) Establishing benefits of emission control technologies:

(1) Develop and validate sophisticated emissions models that can predict the emissions potential for a variety of engine (Compression-ignition, direct injection (CIDI), Spark-ignition, direct injection (SIDI), microturbines) and exhaust after treatment systems in various hybrid electric vehicles (HEV) configurations;

(2) Public sector field-testing of HEV performance (including emission effects) using various alternative fuels; and

(3) Working with a national laboratory or University to develop a simple model of the engine out and tailpipe emissions performance of HEV.

(b) Operational research on refueling infrastructure for alternative fuel vehicles (i.e. high pressure storage, low temperature liquefaction processes, fast charging and convenience charging issues).

(c) Demonstration of the performance, reliability and durability of advanced transportation technologies (i.e. fuel cells, hybrid start/stop propulsion systems, and motor with integrated controller systems) while providing feedback for furthering technology development.

Additional information about the programs of the Office of EERE can be obtained at the Office's Internet site at http://www.eren.doe.gov.

Issued in Golden, Colorado, on April 20, 2001.
Jerry L. Zimmer,
Director, Office of Acquisition and Financial Assistance.

[FR Doc. 01-10503 Filed 4-26-01; 8:45 am]

BILLING CODE 6450-01-P